DEPARTMENT OF STATE

[Public Notice 12503]

60-Day Notice of Proposed Information Collection: Request for Authentications Service

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department of State will accept comments from the public up to October 21, 2024.

ADDRESSES: You may submit comments by any of the following methods:

• Web: Persons with access to the internet may comment on this notice by going to www.Regulations.gov. You can search for the document by entering “Docket Number: DOS-2024-0030 in the Search field. Then click the “Comment Now” button and complete the comment form. Email and regular mail options have been suspended to centralize receiving and addressing all comments in a timely manner.

Email: Passport-Form-Comments@State.gov.

You must include the DS form number (if applicable), information collection title, and the OMB control number in the email subject line.

SUPPLEMENTARY INFORMATION: • Title of Information Collection: Request for Authentications Service.

• OMB Control Number: 1405-0254.

• Type of Request: Renewal of a currently approved collection.

• Originating Office: Bureau of Consular Affairs, Passport Services, Office of Program Management and Operational Support (CA/PPT/S/PMO).

• Form Number: DS-4194.

• Respondents: Individuals, Institutions, Government Agencies.

• Estimated Number of Respondents: 60,734.

• Estimated Number of Responses: 60,734.

• Average Time per Response: 10 minutes.

• Total Estimated Burden Time: 10,122 hours.

• Frequency: Information is requested only when an applicant submits the form to obtain a benefit.

• Obligation to Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Request for Authentications Service is used to request authentications services from the Authentications Office of the U.S. Department of State in the United States. In accordance with 22 CFR part 131, the Office of Authentications provides authentication services for federal public documents that will be used overseas. These services support individuals, commercial organizations, institutions, and federal and state government agencies seeking to use certain documents abroad.

Methodology

The form can be downloaded from http://eforms.state.gov and can be printed for manual signature and submission by mail or hand-delivery.

Amanda E. Smith,
Managing Director for Passport Support Operations, Bureau of Consular Affairs, Passport Services, Department of State.

[FR Doc. 2024-18819 Filed 8-21-24; 8:45 am]

BILLING CODE 4710-06-P